POSTAL SERVICE

39 CFR Part 3

Amendments to Bylaws of the Board of Governors Concerning Establishment of the Price of Semipostal Stamps

AGENCY: Postal Service.

ACTION: Final rule.

SUMMARY: The Board of Governors of the United States Postal Service has approved an amendment to its bylaws. The amendment reserves to the Governors responsibility to set prices for semipostal stamps. A conforming amendment in wording has also been made to the bylaws.

DATES: Effective January 8, 2002.

FOR FURTHER INFORMATION CONTACT: David Hunter, (202) 268-4800.

SUPPLEMENTARY INFORMATION: The Board of Governors of the Postal Service consists of nine Presidentially appointed Governors, the Postmaster General, and the Deputy Postmaster General. 39 U.S.C. 202. The bylaws of the Board list certain matters reserved for action by the Governors alone. 39 CFR 3.4. At its meeting on January 8, 2002, the Board approved an amendment to this bylaw.

The amendment gives effect to 39 U.S.C. 416, as enacted by the Semipostal Authorization Act, Pub. L. 106-253, 114 Stat. 634 (2000). The amendment also applies to the 9/11 Heroes Stamp Act of 2001, Pub. L. 107-67, section 652, 115 Stat. 514 (2001) and the Stamp Out Domestic Violence Act of 2001, Pub. L. 107-67, section 653, 115 Stat. 514 (2001). Section 416 authorizes the Postal Service to sell semipostal stamps. The differential between the price of a semipostal stamp and the First-Class Mail single-piece first-ounce rate, less an offset for the Postal Service's costs, consists of an amount to fund causes that the “Postal Service determines to be in the national public interest and appropriate.” Funds are to be transferred to executive agencies as defined in 5 U.S.C. 105. Section 416 vests the Governors of the Postal Service with authority to establish the price for semipostal stamps “in accordance with such procedures as (the Governors) shall by regulation prescribe.” The Act prescribes that the price of a semipostal stamp is the “rate of postage that would otherwise regularly apply,” presumably, the First-Class single-piece first ounce rate, plus a differential. The differential associated with each semipostal stamp must exceed the postage value by at least 15 percent, and the price of each semipostal must be a multiple of 5. This is modeled on the formula prescribed by the Stamp Out Breast Cancer Act, Pub. L. No. 105-41, 111 Stat. 1119 (1997), as amended by Pub. L. 107-67, section 650, 115 Stat. 514 (2001).

In accordance with section 416, the Board amended § 3.4 of the bylaws to insert a new paragraph (j), reserving to the Governors authority to establish the price of semipostal stamps. Paragraph (i) of § 3.4, which authorizes the Governors to set the price of the breast cancer research stamp under 39 U.S.C. 414, was also amended to conform to the wording of new paragraph (j).

List of Subjects in 39 CFR Part 3

Administrative practice and procedure, Organization and functions (Government agencies), Postal service.

Accordingly, 39 CFR Part 3 is amended as follows:

PART 3—[AMENDED]

1. The authority citation for part 3 is revised to read as follows:

Authority: 39 U.S.C. 202, 203, 205, 401 (2), (10), 402, 414, 416, 1003, 2802-2804, 3013; 5 U.S.C. 552b (g), (j); Inspector General Act, 5 U.S.C. app.; Pub. L. 107-67, 115 Stat. 514 (2001).

2. Section 3.4 is amended by republishing the introductory text, revising paragraph (i), and adding new paragraph (j) to read as follows:

§ 3.4 Matters reserved for decision by the Governors.

The following matters are reserved for decision by the Governors:

* * * * *

(i) Establishment of the price of the breast cancer research semipostal stamp under 39 U.S.C. 414.

(j) Establishment of the price of semipostal stamps under 39 U.S.C. 416.

Stanley F. Mires,
Chief Counsel, Legislative.

[FR Doc. 02-1017 Filed 1-15-02; 8:45 am]

BILLING CODE 7710-12-P